DEPARTMENT OF COMMERCE

National Oceanic and Atmospheric Administration

RIN: 0648-XC35

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene a joint meeting of its Ecosystem Scientific and Statistical Committee (SSC), Standing and Special Reef Fish SSC and Reef Fish Advisory Panel, in St. Petersburg, FL, on September 24 - 28, 2007.

DATES: The Ecosystem SSC meeting will begin at 9 a.m. on Monday, September 24, 2007 and conclude by 3 p.m. on Wednesday, September 26, 2007. The Joint Standing and Special Reef Fish meeting will begin at 9 a.m. on Wednesday, September 26 and conclude by 3 p.m. on Friday, September 28, 2007. The Reef Fish Advisory Panel meeting will begin at 8:30 a.m. on Thursday, September 27, 2007 and conclude by 3 p.m. on Friday, September 28, 2007.

ADDRESSES: The meetings will be held at the Hilton, 333 First Street South, St. Petersburg, FL 33701.

Council address: Gulf of Mexico Fishery Management Council, 2203 North Lois Avenue, Suite 1100, Tampa, FL 33607.

FOR FURTHER INFORMATION CONTACT: Steven Atran, Population Dynamics Statistician and Frank S. Kennedy, Fishery Biologist; Gulf of Mexico Fishery Management Council; telephone: (813) 348-1630.

SUPPLEMENTARY INFORMATION: Beginning Monday, September 27, 2007, the Ecosystem SSC, along with invited ecosystem modeling experts and other workshop attendees, will continue the process begun in an earlier workshop of evaluating the feasibility of using an ecosystem modeling approach to address fishery management related issues. The group will document data sources used in the Ecopath with Ecosim model of the Gulf of Mexico, and they will identify uncertainties associated with the model. The group will also discuss with Southeast Fisheries Science Center assessment biologists differences between ecosystem modeling and single species stock assessments and, if possible, resolve contradictory results between single species assessments and ecosystem modeling results. The group will also begin developing a proposal for integrating ecosystem modeling activities into the process for evaluating potential management measures.

On Wednesday, September 26, the Ecosystem SSC will meet jointly with the Joint Standing and Special Reef Fish SSC to summarize the ecosystem modeling process, preliminary results, and differences with single species assessment results. The Joint Standing and Special Reef Fish SSC will review and comment on the adequacy of the science, and may provide other comments as it deems appropriate.

Beginning Thursday, September 27, the Joint Standing and Special Reef Fish SSC will meet with the Reef Fish AP to hear presentations on Public Hearing Draft Reef Fish Amendment 30A (greater amberjack/gray tilefish), an options paper for Reef Fish Amendment 30B (red grouper/gag), and a scoping document for Reef Fish Amendment 29 (grouper/tilefish limited access). The Joint Standing and Special Reef Fish Scientific SSC and the Reef Fish Advisory Panel (AP) will then meet separately - each will discuss the Amendment 30A public hearing draft, the Amendment 30B options paper, and the Amendment 29 scoping document, and make recommendations to the Council. Each will also discuss possible adjustments to the deep-water grouper and tilefish total allowable catches (TACs) and, time permitting, will review the proposed goliath grouper cooperative research program. The Reef Fish AP will also elect a new Chair and Vice-chair.

Copies of the agendas and other related materials can be obtained by calling (813) 348-1630.

Although other non-emergency issues not on the agendas may come before the SSC's and AP's for discussion, in accordance with the Magnuson-Stevens Fishery Conservation and Management Act (Magnuson-Stevens Act), those issues may not be the subject of formal action during these meetings. Actions of the SSC will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina Trezza at the Council (see ADDRESSES) at least 5 working days prior to the meeting.

Dated: August 29, 2007.
Tracey L. Thompson,
Acting Director, Office of Sustainable Fisheries, National Marine Fisheries Service.

[FR Doc. E7-17405 Filed 8-31-07; 8:45 am]

BILLING CODE 3510-22-S